DEPARTMENT OF COMMERCE

International Trade Administration

[A-570-928]

Uncovered Innerspring Units From the People's Republic of China: Final Results and Final Rescission, in Part, of Antidumping Duty Administrative Review

AGENCY: Import Administration, International Trade Administration, Department of Commerce.

SUMMARY: On December 6, 2011, the Department of Commerce (“Department”) published in the Federal Register the Preliminary Results of the second administrative review of the antidumping duty order on uncovered innersprings units (“innersprings”) from the People's Republic of China (“PRC”).¹ We gave interested parties an opportunity to comment on the Preliminary Results. None were received. As such, these final results do not differ from the Preliminary Results. We find that Reztec Industries Sdn Bhd (“Reztec”) did not sell subject merchandise during the period of review (“POR”), February 1, 2010, through January 31, 2011 and, thus we are rescinding the administrative review, in part, with respect to Reztec. We additionally find that Goodnite Sdn Bhd (“Goodnite”) failed to cooperate to the best of its ability when it did not respond to the Department's original questionnaire and, therefore, we have assigned Goodnite's a rate based on total adverse facts available (“AFA”). The final dumping margin for this administrative review is listed in the “Final Results of Review” section below.

¹ See Uncovered Innerspring Units from the People's Republic of China: Preliminary Results and Preliminary Rescission, in Part, of the Antidumping Duty Administrative Review, 76 FR 76126 (December 6, 2011) (“Preliminary Results”).

DATES: Effective April 12, 2012.

FOR FURTHER INFORMATION CONTACT: Susan Pulongbarit, AD/CVD Operations, Office 9, Import Administration, International Trade Administration, Department of Commerce, 14th Street and Constitution Avenue NW., Washington, DC 20230; telephone: (202) 482-4031.

SUPPLEMENTARY INFORMATION:

Background

As noted above, on December 6, 2011, the Department published in the Federal Register the Preliminary Results of the administrative review of innersprings from the PRC. The Department did not receive comments from interested parties on the Preliminary Results.

Changes Since the Preliminary Results

We have not made any changes to the Preliminary Results.

Scope of the Order

The merchandise subject to the order is uncovered innerspring units composed of a series of individual metal springs joined together in sizes corresponding to the sizes of adult mattresses (e.g., twin, twin long, full, full long, queen, California king and king) and units used in smaller constructions, such as crib and youth mattresses. All uncovered innerspring units are included in the scope regardless of width and length. Included within this definition are innersprings typically ranging from 30.5 inches to 76 inches in width and 68 inches to 84 inches in length. Innersprings for crib mattresses typically range from 25 inches to 27 inches in width and 50 inches to 52 inches in length.

Uncovered innerspring units are suitable for use as the innerspring component in the manufacture of innerspring mattresses, including mattresses that incorporate a foam encasement around the innerspring.

Pocketed and non-pocketed innerspring units are included in this definition. Non-pocketed innersprings are typically joined together with helical wire and border rods. Non-pocketed innersprings are included in this definition regardless of whether they have border rods attached to the perimeter of the innerspring. Pocketed innersprings are individual coils covered by a “pocket” or “sock” of a nonwoven synthetic material or woven material and then glued together in a linear fashion.

Uncovered innersprings are classified under subheading 9404.29.9010 and have also been classified under subheadings 9404.10.0000, 7326.20.0070, 7320.20.5010, or 7320.90.5010 of the Harmonized Tariff Schedule of the United States (“HTSUS”). The HTSUS subheadings are provided for convenience and customs purposes only; the written description of the scope of the order is dispositive.

Final Partial Rescission

In the Preliminary Results, the Department preliminarily rescinded the review with respect to Reztec.² In this administrative review, Reztec reported that it had no shipments of subject merchandise to the United States during the POR. As a result, the Department issued a no-shipment inquiry to U.S. Customs Border and Protection (“CBP”), asking that CBP provide any information contrary to our preliminary findings of no entries of subject merchandise for merchandise manufactured and shipped by Reztec.³ We did not receive any response from CBP, thus indicating that there were no entries of subject merchandise into the United States exported by Reztec. After issuing the Preliminary Results, the Department did not receive any comments from interested parties regarding the rescission of this company. Therefore, the Department is rescinding the administrative review with respect to Reztec.

² See id., at 76127.

³ See Memoranda to Michael Walsh, Director, AD/CVD/Revenue Policy & Programs, from Jim Doyle, Office Director, dated between October 28, 2010, to December 17, 2010, Request for U.S. Entry Documents: Certain Steel Nails from the People's Republic of China.

Final Results of Review

The dumping margin for the POR is as follows:

Innersprings From the PRC
Manufacturer/Exporter | Margin (percent)
Goodnite ⁴ | 234.51

Assessment

Upon issuance of the final results, the Department will determine, and U.S. Customs and Border Protection (“CBP”) shall assess, antidumping duties on all appropriate entries. The Department intends to issue assessment instructions to CBP 15 days after the date of publication of the final results of review. Pursuant to 19 CFR 351.212(b)(1), we will calculate importer-specific (or customer) ad valorem duty assessment rates based on the ratio of the total amount of the dumping margins calculated for the examined sales to the total entered value of those same sales. In accordance with 19 CFR 351.106(c)(2), we will instruct CBP to liquidate, without regard to antidumping duties, all entries of subject merchandise during the POR for which the importer-specific assessment rate is zero or de minimis.

⁴ The Department notes that this antidumping duty margin applies only to Goodnite's subject merchandise, which is limited to PRC-origin merchandise. See Preliminary Results at 76127.

Cash Deposit Requirements

The following cash deposit requirements will be effective upon publication of the final results of this administrative review for all shipments of the subject merchandise from the PRC entered, or withdrawn from warehouse, for consumption on or after the publication date, as provided by section 751(a)(2)(C) of the Act: (1) For previously investigated or reviewed PRC and non-PRC exporters not listed above that have separate rates, the cash deposit rate will continue to be the exporter-specific rate published for the most recent period; (2) for all PRC exporters of subject merchandise which have not been found to be entitled to a separate rate, the cash deposit rate will be the PRC-wide rate of 234.51 percent; (3) for all non-PRC exporters of subject merchandise which have not received their own rate, the cash deposit rate will be the rate applicable to the PRC exporters that supplied that non-PRC exporter; and (4) for Goodnite the cash deposit rate will be 234.51 percent. These deposit requirements, when imposed, shall remain in effect until further notice.

Reimbursement of Duties

This notice also serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of doubled antidumping duties.

Administrative Protective Orders

In accordance with 19 CFR 351.305(a)(3), this notice also serves as a reminder to parties subject to administrative protective order (“APO”) of their responsibility concerning the return or destruction of proprietary information disclosed under the APO, which continues to govern business proprietary information in this segment of the proceeding. Timely written notification of the return/destruction of APO materials or conversion to judicial protective order is hereby requested. Failure to comply with the regulations and terms of an APO is a violation subject to sanction.

We are issuing and publishing this administrative review and notice in accordance with sections 751(a)(1) and 777(i) of the Act.

Dated: April 3, 2012.
Paul Piquado,
Assistant Secretary for Import Administration.

[FR Doc. 2012-8863 Filed 4-11-12; 8:45 am]

BILLING CODE 3510-DS-P